INTERNATIONAL TRADE COMMISSION

[Investigations Nos. 701-TA-409-412 and 731-TA-909 (Final)]

Low Enriched Uranium From France, Germany, the Netherlands, and the United Kingdom

Determinations

On the basis of the record ¹ developed in the subject investigations, the United States International Trade Commission (Commission) determines,² pursuant to section 705(b) of the Tariff Act of 1930 (the Act),³ that an industry in the United States is materially injured ⁴ by reason of imports from France, Germany, the Netherlands, and the United Kingdom of low enriched uranium, provided for in subheadings 2844.20.00 or 2844.40.00 of the Harmonized Tariff Schedule of the United States, that have been found by the Department of Commerce (Commerce) to be subsidized.

¹ The record is defined in § 207.2(f) of the Commission's rules of practice and procedure (19 CFR 207.2(f)).

² Vice Chairman Deanna Tanner Okun not participating.

³ 19 U.S.C. 1671d(b).

⁴ Commissioner Lynn M. Bragg determines that an industry in the United States is threatened with material injury.

The Commission also determines,⁵ pursuant to section 735(b) of the Act,⁶ that an industry in the United States is materially injured ⁷ by reason of imports from France of low enriched uranium that have been found by Commerce to be sold in the United States at less than fair value (LTFV).

⁵ Vice Chairman Deanna Tanner Okun not participating.

⁶ 19 U.S.C. 1673d(b).

⁷ Commissioner Lynn M. Bragg determines that an industry in the United States is threatened with material injury.

Background

The Commission instituted these investigations effective December 7, 2000, following receipt of a petition filed with the Commission and Commerce by USEC Inc. and its wholly owned subsidiary United States Enrichment Corp., Bethesda, MD. The final phase of the investigations was scheduled by the Commission following notification of preliminary determinations by Commerce that imports of low enriched uranium from France, Germany, the Netherlands, and the United Kingdom were being subsidized within the meaning of section 703(b) of the Act ⁸ and were being sold at LTFV within the meaning of section 733(b) of the Act.⁹ Notice of the scheduling of the Commission's investigations and of a public hearing to be held in connection therewith was given by posting copies of the notice in the Office of the Secretary, U.S. International Trade Commission, Washington, DC, and by publishing the notice in the Federal Register of September 5, 2001.¹⁰ The hearing was held in Washington, DC, on December 14, 2001, and all persons who requested the opportunity were permitted to appear in person or by counsel.

⁸ 19 U.S.C. 1671b(b).

⁹ 19 U.S.C. 1673b(b). Following final determinations by Commerce of sales at not less than fair value for imports of low enriched uranium from Germany, the Netherlands, and the United Kingdom (66 FR 65886, December 21, 2001), the Commission terminated investigations Nos. 731-TA-910-912 (Final) effective December 21, 2001 (67 FR 344, January 3, 2002).

¹⁰ 66 FR 46467, September 5, 2001. Subsequently, the Commission published notice of a revised schedule for the investigations and public hearing (66 FR 57986, November 19, 2001).

The Commission transmitted its determinations in these investigations to the Secretary of Commerce on February 4, 2001. The views of the Commission are contained in USITC Publication 3486 (February 2002), entitled Low Enriched Uranium from France, Germany, the Netherlands, and the United Kingdom: Investigations Nos. 701-TA-409-412 and 731-TA-909 (Final).

Issued: February 4, 2002.
By order of the Commission.
Marilyn R. Abbott,
Acting Secretary.

[FR Doc. 02-3037 Filed 2-7-02; 8:45 am]

BILLING CODE 7020-02-P